DEPARTMENT OF HEALTH AND HUMAN SERVICES

Centers for Medicare & Medicaid Services

Performance Review Board Membership

AGENCY: Centers for Medicare & Medicaid Services, HHS.

ACTION: Notice of Performance Review Board Membership.

FOR FURTHER INFORMATION CONTACT: Kathy Vaughn, 410-786-1050 or katherine.vaughn@cms.hhs.gov.

5 U.S.C. 4314(c)(1) through (5) requires each agency to establish, in accordance with regulations prescribed by the Office of Personnel Management, one or more Senior Executive Service (SES) Performance Review Boards.

The PRB shall review and evaluate the initial summary rating of a senior executive's performance, the executive's response, and the higher-level official's comments on the initial summary rating. In addition, the PRB will review and recommend executive performance bonuses and pay increases.

5 U.S.C. 4314(c)(4) requires the appointment of board members to be published in the Federal Register. The following persons comprise a standing roster to serve as members of the SES PRB for the Centers for Medicare & Medicaid Services:

Jennifer Main, Chief Operating Officer (serves as the Chair)

Kimberly Brandt, Principal Deputy Administrator for Policy and Operations

Scott Giberson, Acting Director, Office of Human Capital

Nancy O'Connor, Acting Consortium Administrator, Consortium for Medicare Health Plans Operations

Randy Pate, Deputy Administrator and Director, Center for Consumer Information and Insurance Oversight

Elizabeth Richter, Deputy Center Director, Center for Medicare

Arrah Tabe-Bedward, Deputy Director, Center for Medicare and Medicaid Innovation

Jeffrey, Deputy Director for Operations, Center for Consumer Information and Insurance Oversight

Dated: September 5, 2019.
Jennifer Main,
Chief Operating Officer.

[FR Doc. 2019-21061 Filed 9-27-19; 8:45 am]

BILLING CODE 4120-01-P